DEPARTMENT OF COMMERCE

National Oceanic and Atmospheric Administration

50 CFR Part 679

[Docket No. 200604-0152]

RIN 0648-BJ35

Fisheries of the Exclusive Economic Zone off Alaska; Modifying Seasonal Allocations of Pollock and Pacific Cod for Trawl Catcher Vessels in the Central and Western Gulf of Alaska; Correction

AGENCY: National Marine Fisheries Service (NMFS), National Oceanic and Atmospheric Administration (NOAA), Commerce.

ACTION: Final rule; correction.

SUMMARY: NMFS is correcting a final rule that published in the Federal Register on June 25, 2020, implementing Amendment 109 to the Fishery Management Plan for Groundfish of the Gulf of Alaska (GOA FMP) and a regulatory amendment to the regulations governing pollock fishing in the Gulf of Alaska (GOA). The final rule's intent as to Pacific cod was to change the seasonal apportionments of Pacific cod for the trawl catcher vessel (CV) sector. However, in changing the seasonal apportionments, the final rule's regulatory text inadvertently affected the jig sector such that it became unclear if the new, overall seasonal apportionments apply to the jig sector. This correction is necessary to clarify seasonal apportionments of Pacific cod for the jig sector.

DATES: This rule is effective on January 1, 2021.

FOR FURTHER INFORMATION CONTACT: Kelly Cates, 907-586-7228.

SUPPLEMENTARY INFORMATION:

Need for Correction

NMFS published Amendment 109 to the GOA FMP and a regulatory amendment to the regulations governing pollock fishing in the GOA in the Federal Register on June 25, 2020 (85 FR 38093), which will be referred to in this correction collectively as Amendment 109. The final rule addresses operational and management inefficiencies in the trawl CV pollock and Pacific cod fisheries in the Central Regulatory Area (CGOA) and the Western Regulatory Area (WGOA) of the GOA. This correction does not affect the pollock seasons and allocations as revised by Amendment 109.

The final rule to implement Amendment 109 is effective on January 1, 2021, and, in part, revises § 679.20(a)(12)(i) to specify the new seasonal apportionments of Pacific cod total allowable catch (TAC) for the trawl CV sector in the CGOA and the WGOA. The trawl CV sector is one of several sectors for which the regulations allocate the Pacific cod TAC in the WGOA and CGOA and apportion those allocations seasonally (among gear and operation types) between the A and B seasons (§ 679.20(a)(12)(i)(A) and (B)). The final rule to implement Amendment 109 changes the trawl CV sector's seasonal apportionments in the CGOA and WGOA: The A seasonal apportionment increases by approximately 4 percent, while the B seasonal apportionment decreases by approximately 4 percent. Because the final rule shifts one sector's seasonal apportionment between the A and B seasons, the overall seasonal apportionment across all sectors in the CGOA and WGOA also shifts between the A and B seasons. The final rule to implement Amendment 109 therefore changes the WGOA and CGOA Pacific cod overall seasonal apportionments from 60 percent (A season) and 40 percent (B season) as follows: 63.84 percent of the WGOA TAC apportioned to the A season and 36.16 percent of the WGOA TAC apportioned to the B season, and 64.16 percent of the CGOA TAC apportioned to the A season and 35.84 percent of the CGOA TAC apportioned to the B season.

In changing these seasonal apportionments, however, the final rule for Amendment 109 inadvertently affected the jig sector: Because the regulations do not specify the jig sector seasonal apportionment, unlike the A and B season apportionments for all other sectors and gear and operation types in the CGOA and WGOA, it became ambiguous if the new, overall Pacific cod seasonal apportionments should be applied to the jig sector. To remove any ambiguity, NMFS is correcting the final rule to implement Amendment 109 to specify that the CGOA and WGOA Pacific cod TACs will be seasonally apportioned to the jig sector such that 60 percent of the TAC is apportioned to the A season and 40 percent of the TAC is apportioned to the B season.

In implementing the final rule for Amendment 109, the North Pacific Fishery Management Council (Council) and NMFS were clear that they did not intend for Amendment 109 to affect any sectors other than the trawl CV sector. In the preambles to both the proposed rule (85 FR 11939, February 28, 2020) and final rule (85 FR 38093, June 25, 2020) to implement Amendment 109, NMFS specified that although the overall ratio of A and B seasonal apportionments of Pacific cod for the trawl CV sector is changing, the rule does not affect the seasonal apportionments of Pacific cod to any other sectors. The preambles further clarified that the seasonal apportionment of Pacific cod remains unchanged for all other sectors in the CGOA and the WGOA.

In addition, the Council and NMFS have clearly indicated their intention regarding the jig sector's seasonal apportionment on two fronts. First, the rulemaking to implement Amendment 83 to the GOA FMP (76 FR 74670, December 1, 2011) specified that the jig sector seasonal apportionment would be 60 percent for the A season and 40 percent for the B season in the CGOA and the WGOA (76 FR 44700, July 26, 2011). Second, NMFS has implemented the same apportionment in the annual GOA groundfish harvest specifications since the approval of Amendment 83. However, the regulatory text at § 679.20(a)(12)(i) does not specify the jig sector seasonal apportionment (like the A and B season apportionments are for all other sectors and gear and operation types in the CGOA and WGOA).

In order to clarify the seasonal apportionment to the jig sector for Pacific cod in the WGOA and CGOA, the final rule for Amendment 109 will be revised to expressly state the A and B season apportionments of Pacific cod to the jig sector. As revised, the regulations now will provide that a portion of the annual Pacific cod TAC, pursuant to § 679.20(a)(12)(i)(A) and (B), will be allocated to vessels with a Federal Fishing Permit that use jig gear, before TAC is apportioned among other non-jig sectors. This portion of the CGOA and WGOA Pacific cod TACs will be seasonally apportioned to the jig sector such that 60 percent of the TAC is apportioned to the A season and 40 percent of the TAC is apportioned to the B season, as specified in § 679.23(d)(3). Once the TAC for Pacific cod is apportioned to the jig sector, the remainder of the WGOA and CGOA Pacific cod TACs will be seasonally apportioned among the non-jig sectors such that 63.84 percent of the WGOA TAC is apportioned to the A season and 36.16 percent of the WGOA TAC is apportioned to the B season, and 64.16 percent of the CGOA TAC is apportioned to the A season and 35.84 percent of the CGOA TAC is apportioned to the B season, as specified in § 679.23(d)(3). This correction makes these clarifications in § 679.20(a)(12)(i).

This correction to the final rule to implement Amendment 109 will ensure that the new seasonal allocations of Pacific cod are available at the start of the fishing year. The purposes of Amendment 109 are to allow the fisheries to more fully harvest the Pacific cod and pollock TACs in the WGOA and CGOA, increase management flexibility, and, potentially, decrease the prohibited species catch, while not redistributing fishing opportunities between management areas or harvest sectors.

Correction

Effective January 1, 2021, in rule document 2020-12453 at 85 FR 38093 in the issue of June 25, 2020, on page 38100, in the third column, in amendatory instruction 2, paragraph (a)(12)(i) introductory text is corrected to read as follows:

§ 679.20 [Corrected]

* * * * *

(a) * * *

(12) * * *

(i) Seasonal allowances by sector. The Western and Central GOA Pacific cod TACs will be seasonally apportioned to the jig sector such that 60 percent of the TAC is apportioned to the A season and 40 percent of the TAC is apportioned to the B season, as specified in § 679.23(d)(3), before TAC is apportioned among other non-jig sectors. The Western and Central GOA Pacific cod TACs will be seasonally apportioned among the non-jig sectors such that 63.84 percent of the Western GOA TAC is apportioned to the A season and 36.16 percent of the Western GOA TAC is apportioned to the B season, and 64.16 percent of the Central GOA TAC is apportioned to the A season and 35.84 percent of the Central GOA TAC is apportioned to the B season, as specified in § 679.23(d)(3).

* * * * *

Dated: December 2, 2020.
Samuel D. Rauch III,
Deputy Assistant Administrator for Regulatory Programs, National Marine Fisheries Service.

[FR Doc. 2020-26954 Filed 12-8-20; 8:45 am]

BILLING CODE 3510-22-P